DEPARTMENT OF EDUCATION

Third-Party Access to the Department's Information Technology Systems and Notice of Criminal Penalties for Misuse of Access Devices; Correction

AGENCY: Office of Federal Student Aid, Department of Education.

ACTION: Notice; correction.

SUMMARY: On September 10, 2021, the Department of Education (Department) published in the Federal Register a notice announcing Third-Party Access to the Department's Information Technology Systems and Notice of Criminal Penalties for Misuse of Access Devices. This notice clarifies language in that notice that describes the revocation of access if a user has a Title IV loan that goes into default. All other information in the September 10, 2021, Federal Register notice, remains the same.

DATES: This correction is applicable on October 24, 2022.

FOR FURTHER INFORMATION CONTACT: Michael Ruggless, Federal Student Aid, 830 First Street NE, Union Center Plaza, Room 114B4, Washington, DC 20202-5345. Telephone: (202) 377-4098. Email: Michael.Ruggless@ed.gov.

Tamy Abernathy, Office of Postsecondary Education, 400 Maryland Avenue SW, 2C-129, Washington, DC 20202. Telephone: (202) 453-5970. Email: Tamy.Abernathy@ed.gov.

If you are deaf, hard of hearing, or have a speech disability and wish to access telecommunications relay services, please dial 7-1-1.

SUPPLEMENTARY INFORMATION: On September 10, 2021, the Department published a notice in the Federal Register (86 FR 50707) announcing Third-Party Access to the Department's Information Technology Systems and Notice of Criminal Penalties for Misuse of Access Devices (2021 Notice). The 2021 Notice provided a list of what it termed “Rules of Behavior” that included in paragraph (m) the revocation of access if a user has a Title IV loan that goes into default. This notice clarifies the language in paragraph (m). All other information in the 2021 Notice remains the same.

Corrections

In FR Doc 2021-19536 appearing on page 50707-50709 in the Federal Register of September 10, 2021 (86 FR 50707), the following corrections are made:

1. On page 50709, in the first column, the paragraph (m) under the heading “Code of Conduct” is revised to read as follows:

If you have Title IV loans, they must be in good standing. If you have a loan that goes into default, your access to the Department's information systems to administer the Title IV Programs under the HEA will be revoked. This means your access to conduct business functions within the Department's IT systems will be revoked. This includes, but not limited to, access to: Common Origination and Disbursement (COD), Financial Aid Administrator (FAA) Access to Central Processing System (CPS) Online, and the National Student Loan Data System (NSLDS®) will be revoked. Access to manage and view your own Title IV loans and financial aid history through the Department's information systems and/or your federal loan servicer as an aid recipient or borrower will not be revoked.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 20 U.S.C 1001; 20 U.S.C. 1018; 20 U.S.C. 1092b; and 20 U.S.C. 1097.

Richard Cordray,
Chief Operating Officer, Federal Student Aid.

[FR Doc. 2022-23067 Filed 10-21-22; 8:45 am]

BILLING CODE 4000-01-P